NATIONAL SCIENCE FOUNDATION

Special Emphasis Panel in Social, Behavioral, and Economic Sciences; Notice of Meeting

In accordance with the Federal Advisory Committee Act (Public Law 92-463, as amended), the National Science Foundation announces the following meeting:

Name: Special Emphasis Panel in Social, Behavioral, and Economic Sciences (1766).

Date/Time: March 30, 2001; 9:00 a.m. to 5:00 p.m.

Place: National Science Foundation Room 375, Wilson Blvd., Arlington, VA .

Type of Meeting: Open.

Contact Person: M. Marge Machen, Project Officer, Division of Science Resources Studies, Research and Development Statistics Program, 4201 Wilson Blvd., Suite 965, Arlington, VA 22230, Telephone: (703) 292-7786, Fax: (703) 292-9091. Minutes may be obtained from the contact person at the above address.

Purpose of Meeting: To review and comment on issues affecting the annual Survey of Research and Development Expenditures at Universities and Colleges.

Agenda:

• The extent of academic research and development performed through organizations that overlap the government, industry or nonprofit sectors of the science and engineering enterprise in the U.S. institutions.

• The viability of capturing these activities through the present format on the Academic R&D Expenditures Survey.

• Unreimbursed indirect costs and related sponsored research.

• It is anticipated that items 2A (current fund R&D expenditures by non-science & engineering fields) and 2B (current fund R&D expenditures from individual Federal agencies) will no longer be optional and will become part of the FY 2001 survey.

Dated: March 6, 2001.
Susanne Bolton,
Committee Management Officer.

[FR Doc. 01-5879 Filed 3-8-01; 8:45 am]

BILLING CODE 7555-01-M